Proclamation 7943 of October 7, 2005

Leif Erikson Day, 2005

By the President of the United States of America

A Proclamation

More than 1,000 years ago, Leif Erikson left the coast of Greenland and began a journey to explore new lands. He made that voyage in the spirit of discovery and became one of the first Europeans known to have reached North America, inspiring stories of bountiful lands and charting a way for future explorers to follow. On Leif Erikson Day, we celebrate the accomplishments of Leif Erikson and his crew, and we honor the many contributions of Nordic Americans to our Nation.

The journey of Leif Erikson reflects the spirit that has made America strong, as the desire to explore and understand is part of our national character. Today, we continue to push the frontiers of knowledge in many areas and especially with our exploration of space, drawn to the heavens as we were once drawn to the open seas.

Generations of Nordic Americans have come to our country with a sense of determination and optimism, and they have helped build a stronger and more vibrant Nation. On Leif Erikson Day, we celebrate Nordic Americans, as well as the ties between America and the Nordic nations. We are joined by a common respect for liberty, human rights, and the dignity of every person. Working together, we are spreading freedom and hope, and we are helping to build a better and more compassionate world.

To honor Leif Erikson, son of Iceland and grandson of Norway, and to celebrate our citizens of Nordic-American heritage, the Congress, by joint resolution (Public Law 88-566) approved on September 2, 1964, has authorized and requested the President to proclaim October 9 of each year as “Leif Erikson Day.”

NOW, THEREFORE, I, GEORGE W. BUSH, President of the United States of America, do hereby proclaim October 9, 2005, as Leif Erikson Day. I call upon all Americans to observe this day with appropriate ceremonies, activities, and programs to honor our rich Nordic-American heritage.

IN WITNESS WHEREOF, I have hereunto set my hand this seventh day of October, in the year of our Lord two thousand five, and of the Independence of the United States of America the two hundred and thirtieth.

B

[FR Doc. 05-20657

Filed 10-12-05; 9:18 am]

Billing code 3195-01-P